FEDERAL ENERGY REGULATORY COMMISSION

Notice of Fifth Workshop; Better Stakeholder Involvement: Lessons Learned from Implementing the Commission's National Environmental Policy Act Pre-Filing Process

September 2, 2003.

The Office of Energy Projects will host the fifth workshop in its “Better Stakeholder Involvement Series.” This workshop will focus on “lessons learned” from a project where the Commission's National Environmental Policy Act (NEPA) Pre-Filing Process was implemented.¹ It will be held in Roanoke, Virginia, on Thursday, October 2, 2003. We are inviting interstate natural gas companies; Federal, state and local agencies; landowners and other non-governmental organizations to participate.

¹ Information on the Commission's NEPA Pre-Filing Process can be downloaded from our Web site at http://www.ferc.gov or requested by e-mail at: gasoutreach@ferc;gov.

We will learn from stakeholder and industry experiences with projects, solicit ideas for enhancing communication, and discuss the development of a new brochure to help stakeholders effectively participate in the NEPA Pre-Filing Process.

We will specifically discuss the facility planning process, but not the merits of any specific proposed or existing pipeline projects. Participants are asked to speak from experience and be constructive, and bear in mind that the focus of the workshop is on discussing and improving the process of communication between the industry, the stakeholders, and the Federal Energy Regulatory Commission before the filing of an application.

The workshop will be held at the Holiday Inn-Tanglewood, 4468 Starkey Road, from 9 a.m. to 4 p.m. The phone number at the hotel is 1-888-228-5040. A preliminary agenda and directions and map to the hotel are enclosed. You may also go to the hotel's Web site for more detailed information and driving directions at http://www.ichotels.com, then click “Holiday Inn”, and type in “Roanoke, VA.”

If you plan to attend or have suggestions for the agenda, please respond by Monday, September 29, 2003 via facsimile to Roberta Coulter at 202-208-0353, or you may e-mail our team at: gasoutreach@ferc.gov. Please include in the response the names, addresses, and telephone numbers of all attendees from your organization.

To help us enhance our panel discussions, please consider, and forward to us, issues and/or questions you would like to have addressed at the meetings. If you have any questions, you may contact any of the staff listed below:

Richard Hoffmann 202-502-8066.

Lauren O'Donnell 202-502-8325.

Alisa Lykens 202-502-8766.

Howard Wheeler 202-502-8688.

J. Mark Robinson,
Director, Office of Energy Projects.

Agenda

Better Stakeholder Involvement: Lessons Learned from Implementing the Commission's NEPA Pre-filing Process

Roanoke Workshop—October 2, 2003

9 a.m.—Welcome, Introduction and Objectives—FERC

9:15 a.m.—The NEPA Pre-filing Process—Lauren O'Donnell, FERC

9:30 a.m.—Industry Perspective: Lessons Learned on Greenbrier Pipeline Project—Bob Orndorff and Sean Sleigh, Dominion Transmission, Inc.

10:15 a.m.—Break

10:30 a.m.—Panel Discussion: Perspectives from Local Stakeholders—Ron Meadows, citizen/property owner. Other participants to be confirmed.

11:30 a.m.—Perspective from a Cooperating Agency—Naomi Johnson, Jefferson National Forest

12 p.m.—Lessons Learned by FERC—Lauren O'Donnell, FERC

12:30 p.m.—Lunch (On Your Own)

1:45 p.m.—Landowner “Brochure” Development Workshop—Anne Gunning, Kearns & West

2:45 p.m.—Break

3 p.m.—Summary Discussion, Overall Comments, Next Steps

4 p.m.—Adjourn

[FR Doc. 03-22853 Filed 9-8-03; 8:45 am]

BILLING CODE 6717-01-P